DEPARTMENT OF ENERGY

Federal Energy Regulatory Commission

Combined Notice of Filings

Take notice that the Commission has received the following Natural Gas Pipeline Rate and Refund Report filings:

Filings Instituting Proceedings

Docket Numbers: RP15-148-000.

Applicants: Transcontinental Gas Pipe Line Company.

Description: § 4(d) rate filing per 154.204: GT&C Section 39 Shipper Consent Timeline to be effective 12/6/2014.

Filed Date: 11/5/14.

Accession Number: 20141105-5001.

Comments Due: 5 p.m. ET 11/17/14.

Docket Numbers: RP15-149-000.

Applicants: Iroquois Gas Transmission System, L.P.

Description: § 4(d) rate filing per 154.204: 11/05/14 Negotiated Rates—Trafigura AG (RTS) 7445-04 to be effective 11/6/2014.

Filed Date: 11/5/14.

Accession Number: 20141105-5053.

Comments Due: 5 p.m. ET 11/17/14.

Docket Numbers: RP15-150-000.

Applicants: Iroquois Gas Transmission System, L.P.

Description: § 4(d) rate filing per 154.204: 11/05/14 Negotiated Rates—Trafigura AG (HUB) 7445-89 to be effective 11/6/2014.

Filed Date: 11/5/14.

Accession Number: 20141105-5071.

Comments Due: 5 p.m. ET 11/17/14.

Docket Numbers: RP15-151-000.

Applicants: Enable Gas Transmission, LLC.

Description: § 4(d) rate filing per 154.204: Negotiated Rate Filing—November 2014—LER 1010222 Att A to be effective 11/5/2014.

Filed Date: 11/5/14.

Accession Number: 20141105-5163.

Comments Due: 5 p.m. ET 11/17/14.

Docket Numbers: RP15-152-000.

Applicants: Natural Gas Pipeline Company of America.

Description: § 4(d) rate filing per 154.204: Removal of Expiring Agreement to be effective 12/6/2014.

Filed Date: 11/5/14.

Accession Number: 20141105-5232.

Comments Due: 5 p.m. ET 11/17/14.

Docket Numbers: RP15-153-000.

Applicants: Midcontinent Express Pipeline LLC.

Description: § 4(d) rate filing per 154.204: Removing Expired Agreements to be effective 12/6/2014.

Filed Date: 11/5/14.

Accession Number: 20141105-5233.

Comments Due: 5 p.m. ET 11/17/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-877-001.

Applicants: Northwest Pipeline LLC.

Description: Compliance filing per 154.203: Supplement to Order to Show Cause Filing to be effective 11/1/2014.

Filed Date: 11/5/14.

Accession Number: 20141105-5002.

Comments Due: 5 p.m. ET 11/17/14.

Docket Numbers: RP14-934-001.

Applicants: Questar Southern Trails Pipeline Company.

Description: Compliance filing per 154.203: Order to Show Cause Compliance Filing to be effective 6/16/2014.

Filed Date: 11/5/14.

Accession Number: 20141105-5193.

Comments Due: 5 p.m. ET 11/17/14.

Docket Numbers: RP14-935-002.

Applicants: Questar Overthrust Pipeline Company.

Description: Compliance filing per 154.203: Show Cause Order Compliance Filing to be effective 11/30/2014.

Filed Date: 11/5/14.

Accession Number: 20141105-5194.

Comments Due: 5 p.m. ET 11/17/14.

Docket Numbers: RP14-936-001.

Applicants: White River Hub, LLC.

Description: Compliance filing per 154.203: Order to Show Cause Compliance Filing to be effective 6/16/2014.

Filed Date: 11/5/14.

Accession Number: 20141105-5192.

Comments Due: 5 p.m. ET 11/17/14.

Docket Numbers: RP14-946-001.

Applicants: Southern Natural Gas Company, L.L.C.

Description: Compliance filing per 154.203: Show Cause Order—Compliance Filing 2 to be effective 10/16/2014.

Filed Date: 11/5/14.

Accession Number: 20141105-5084.

Comments Due: 5 p.m. ET 11/17/14.

Docket Numbers: RP14-948-001.

Applicants: Southern LNG Company, L.L.C.

Description: Compliance filing per 154.203: Show Cause Order—Compliance Filing 2 to be effective 10/16/2014.

Filed Date: 11/5/14.

Accession Number: 20141105-5085.

Comments Due: 5 p.m. ET 11/17/14.

Docket Numbers: RP14-949-001.

Applicants: Elba Express Company, L.L.C.

Description: Compliance filing per 154.203: Show Cause Order—Compliance Filing 2 to be effective 10/16/2014.

Filed Date: 11/5/14.

Accession Number: 20141105-5086.

Comments Due: 5 p.m. ET 11/17/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2014.
Nathaniel J. Davis, Sr.,
Deputy Secretary.

[FR Doc. 2014-27116 Filed 11-14-14; 8:45 am]

BILLING CODE 6717-01-P